DEPARTMENT OF DEFENSE

Department of the Army

Performance Review Boards Membership

AGENCY: Department of the Army, DoD.

ACTION: Notice.

SUMMARY: Notice is given of the names of members of a Performance Review Board for the Department of the Army.

DATES: August 14, 2001.

FOR FURTHER INFORMATION CONTACT: David Stokes, U.S. Army Senior Executive Service Office, Assistant Secretary of the Army, Manpower & Reserve Affairs, 111 Army, Washington, DC 20310-0111.

SUPPLEMENTARY INFORMATION: Section 4314(c)(1) through (5) of Title 5, U.S.C. requires each agency to establish, in accordance with regulations, one or more Senior Executive Service performance review boards. The boards shall review and evaluate the initial appraisal of senior executives' performance by supervisors and make recommendations to the appointing authority or rating official relative to the performance of these executives.

The members of the Performance Review Board for the U.S. Army Materiel Command are:

1. Mr. James L. Bacon, Program Manager for Chemical Demil Operations, Office of the Army Acquisition Executive.

2. Mr. James J. Barbarello, Director, C2 and Systems Integration, CECOM RD&E Center, U.S. Army Communications-Electronics Command.

3. Mr. Thomas C. Boyle, Director, Integrated Materiel Management Center, U.S. Army Tank-automotive and Armaments Command.

4. MG John S. Caldwell, Jr., U.S. Army Tank-automotive and Armaments Command.

5. Ms. Lucretia M. Cruze, Executive Director, Acquisition Center, U.S. Army Aviation and Missile Command.

6. Dr. Chine I. Chang, Director, U.S. Army Research Office, U.S. Army Research Laboratory.

7. MG John J. Deyermond, Deputy Chief of Staff for Logistics, and Operations, U.S. Army Materiel Command.

8. Mr. Robert Doto, Director, Intelligence and Information, Warfare Directorate, CECOM RD&E Center, U.S. Army Communications-Electronics Command.

9. Mr. Mitra Dutta, Director, Research and Technology Integration, U.S. Army Research Office.

10. Mr. Victor J. Ferlise, Deputy to the Commander, U.S. Communications-Electronics Command, Dr. James D. Gantt, Deputy Director, Computational and Information Sciences Directorate, U.S. Army Research Laboratory.

11. Mr. Truman W. Howard, Director for Weapon Sciences, Aviation and Missile RD&E Center, U.S. Army Aviation and Missile Command.

12. Dr. Joseph A. Lannon, Director, Warheads, Energetics and Combat-Support, Armaments Center, U.S. Army Armament Research, Development and Engineering Center, U.S. Army Tank-automotive and Armaments Command.

13. Mr. Anthony A. LaPlaca, Director, CECOM RD&E Logistics & Readiness Center, U.S. Army Communications-Electronics Command.

14. Mr. John C. Lawkowski, Assistant Deputy Chief of Staff for Resource Management, U.S. Army Materiel Command.

15. Mr. Anthony Lisuzzo, Associate Technical Director, CECOM RD&E Center, U.S. Army Communications-Electronics Command.

16. Dr. Louis C. Marquet, Director, CECOM RD&E Center, U.S. Army Communications-Electronics Command.

17. MG Michael R. Mazzuchi, Program Executive Office, C3 Systems, Office of the Army Acquisition Executive.

18. Mr. Daniel G. Mehney, Director, Acquisition Center, U.S. Army Tank-automotive and Armaments Command.

19. Dr. John M. Pellegrino, Director, Sensors and Electron Devices Directorate, U.S. Army Research Laboratory.

20. Ms. Renata F. Price, Assistant Deputy Chief of Staff for RDA—Science, Technology, and Engineering, U.S. Army Materiel Command.

21. Dr. N. Radhakrishnan, Director, Computational and Information, Sciences Directorate, U.S. Army Research Laboratory.

22. Mr. Vemula P. Rao, Vice President for Customer Engineering, Tank-Automative RD&E Center, U.S. Army Tank-automotive and Armaments Command.

23. Mr. Michael C. Schexnayder, Associate Director for Missile Systems, Aviation and Missile RD&E Center, U.S. Army Aviation and Missile Command.

24. Mr. David J. Schaffer, Director, U.S. Army Materiel Systems Analysis Activity.

25. Ms. Sandra O. Sieber, Associate Director, CECOM Acquisition Center, U.S. Army Communciations-Electronics Command.

26. Mr. Brian M. Simmons, Deputy to the Commander and Technical Director, U.S. Army Test and Evaluation Center, U.S. Army Test and Evaluation Command.

27. MG James R. Snider, Deputy Chief of Staff for Research, Development and Acquisition, U.S. Army Materiel Command.

28. Mr. Robert J. Spazzarini, Chief Counsel, U.S. Army Aviation and Missile Command.

29. Ms. Kathryn T. H. Szymanski, Chief Counsel, U.S. Army Communications-Electronics Command.

30. Mr. Joseph H. Zarzycki, Technical Director, Edgewood Chemical and Biological Center, U.S. Army Soldier and Biological Chemical Command.

John A. Hall,
Alternate Army Federal Register Liaison Officer.

[FR Doc. 01-20757 Filed 8-16-01; 8:45 am]

BILLING CODE 3710-08-M